DEPARTMENT OF COMMERCE

National Oceanic and Atmospheric Administration

[I.D. 020504C]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish Advisory Panel and its Joint Herring Oversight Committee and Advisory Panel in February and March, 2004 to consider actions affecting New England fisheries in the exclusive economic zone (EEZ). Recommendations from these groups will be brought to the full Council for formal consideration and action, if appropriate.

DATES: The meetings will be held on February 25, 2004, and March 1-2, 2004. See SUPPLEMENTARY INFORMATION for specific dates and times.

ADDRESSES: The meetings will be held in Portsmouth, NH and Portland, ME. See SUPPLEMENTARY INFORMATION for specific locations.

Council address: New England Fishery Management Council, 50 Water Street, Mill 2, Newburyport, MA 01950.

FOR FURTHER INFORMATION CONTACT: Paul J. Howard, Executive Director, New England Fishery Management Council (978) 465-0492.

SUPPLEMENTARY INFORMATION:

Meeting Dates and Agendas

Wednesday, February 25, 2004, at 9:30 a.m. B Groundfish Advisory Panel Meeting.

Location: Holiday Inn, 300 Woodbury Ave., Portsmouth, NH 03801; telephone: (603) 431-8000.

The Groundfish Advisory Panel will meet to discuss Framework Adjustment 40 to the Northeast Multispecies Fishery Management Plan (FMP). They will develop recommended requirements for the use of Category B days-at-sea (DAS). They will consider identifying opportunities for using Category B (regular) DAS that are based on seasons, areas, and gear types, and may consider additional Special Access Programs (SAPs). The panels' recommendations will be forwarded to the Groundfish Oversight Committee for consideration at a future meeting. The Advisory Panel will also discuss the steaming time issue and will discuss other business.

Monday, March 1, 2004, at 9:30 a.m. and Tuesday, March 2, 2004, at 8:30 a.m. B Joint Herring Oversight Committee and Advisory Panel Meeting.

Location: Holiday Inn by the Bay, 88 Spring Street, Portland, ME 04101; telephone: (207) 775-2311.

The Committee will review progress on development of alternatives and analyses for Amendment 1 to the Herring FMP. They will review Herring Plan Development Team recommendations regarding the range of alternatives in Amendment 1 and possible elimination of some alternatives. Also on the agenda is the review of recommendations from the Enforcement Committee, Habitat Technical Team, and other groups regarding the range of alternatives under consideration in Amendment 1. These groups will develop Herring Committee recommendations regarding the range of alternatives in Amendment 1, including possible elimination of some alternatives.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: February 5, 2004.
Tracey Thompson,
Acting Director, Office of Sustainable Fisheries, National Marine Fisheries Service.

[FR Doc. E4-251 Filed 2-10-04; 8:45 am]

BILLING CODE 3510-22-S